DEPARTMENT OF ENERGY

Federal Energy Regulatory Commission

Notice of Application Accepted for Filing and Soliciting Motions To Intervene, Protests, and Comments

December 30, 2004.

Take notice that the following hydroelectric application has been filed with the Commission and is available for public inspection:

a. Type of Application: Preliminary permit.

b. Project No.: 12540-000, 12542-000, 12544-000, 12545-000, 12548-000, and 12549-000.

c. Date Filed: September 22, 2004.

d. Applicant: Hydrodynamic, LLC.

e. Name of Project: Woods, Upper Turnbull, Knights, Johnson, Greenfield, and A-Drop Projects.

f. Location: All of these projects would be located on the U.S. Bureau of Reclamation's existing Greenfield Irrigation District canal system, using irrigation diversions from the Sun River below Gibson Dam, at the canal and drop structure identified in item K below, in Teton and Cascade Counties, Montana.

g. Filed Pursuant to: Federal Power Act, 16 U.S.C. 791(a)-825(r).

h. Applicant Contact: Mr. Roger Kirk, Hydrodynamics, LLC, P.O. Box 1136, Bozeman, MT 59771-1136, (406) 587-5086.

i. FERC Contact: Robert Bell, (202) 502-6062.

j. Deadline for Filing Comments, Protests, and Motions To Intervene: 60 days from the issuance date of this notice.

All documents (original and eight copies) should be filed with Magalie R. Salas, Secretary, Federal Energy Regulatory Commission, 888 First Street, NE., Washington, DC 20426. Please include the project number (P-12540-000, P-12542-000, P-12544-000, P-12545-000, P-12548-000, or P-12549-000) on any comments, protest, or motions filed.

k. Description of Project: The name of each project identifies the drop structure at which it would be located. All of the described works are proposed:

(1) The Woods Project No. 12540 would consist of a diversion structure, crest elevation 3,972 feet, on the Greenfield Main Canal, a 750-foot-long, 8-foot Diameter penstock, a powerhouse containing one generating unit having an installed capacity 1.25 megawatts, a tailrace returning flows to the canal at elevation 3,919 feet, and a 0.1-mile-long, 69-KV transmission line and appurtenant facilities. The applicant estimates the project would have an average annual generation of 4.7 gigawatt-hours.

(2) The Upper Turnbull Project No. 12542 would consist of a diversion structure, crest elevation 4,322 feet, on the Spring Valley Canal, a 1400-foot-long, 8-foot Diameter penstock, a powerhouse containing one generating unit having an installed capacity 1.25 megawatts, a tailrace returning flows to the canal at elevation 3,818 feet, and a ¼-mile-long, 69-KV transmission line and appurtenant facilities. The applicant estimates the project would have an average annual generation of 16.2 gigawatt-hours.

(3) The Knights Project No. 12544 would consist of a diversion structure, crest elevation 3,878 feet, on the Greenfield Main Canal, a 1200-foot-long, 8-foot Diameter penstock, a powerhouse containing one generating unit having an installed capacity 4 megawatts, a tailrace returning flows to the canal at elevation 4,220 feet, and a 2-mile-long, 12-KV transmission line and appurtenant facilities. The applicant estimates the project would have an average annual generation of 3.4 gigawatt-hours.

(4) The Johnson Project No. 12545 would consist of a diversion structure, crest elevation 4,018 feet, on the Greenfield South Canal, a 900-foot-long, 8-foot Diameter penstock, a powerhouse containing one generating unit having an installed capacity 1 megawatts, a tailrace returning flows to the canal at elevation 3,972 feet, and a ⅓-mile-long, 69-KV transmission line and appurtenant facilities. The applicant estimates the project would have an average annual generation of 3.4 gigawatt-hours.

(5) The Greenfield Project No. 12548 would consist of a diversion structure, crest elevation 3,918 feet, on the Greenfield Main Canal, a 650-foot-long, 7-foot Diameter penstock, a powerhouse containing one generating unit having an installed capacity 0.8 megawatts, a tailrace returning flows to the canal at elevation 3,880 feet, and a 0.1-mile-long, 12-KV transmission line and appurtenant facilities. The applicant estimates the project would have an average annual generation of 2.8 gigawatt-hours.

(6) The A-Drop Project No. 12549 would consist of a diversion structure, crest elevation 4,054 feet, on the Greenfield Main Canal, a 570-foot-long, 8-foot Diameter penstock, a powerhouse containing one generating unit having an installed capacity 1.25 megawatts, a tailrace returning flows to the canal at elevation 4,020 feet, and a 0.05-mile-long, 12-KV transmission line and appurtenant facilities. The applicant estimates the project would have an average annual generation of 4.9 gigawatt-hours.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary link.” Enter the docket number excluding the last three digits in the docket number field to access the document. For assistance, please contact FERC Online Support at FERCOnlineSupport@ferc.gov or toll free at 1-866-208-3676, or TTY, contact (202) 502-8659. A copy is also available for inspection and reproduction at the address in item h. above.

m. Individuals desiring to be included on the Commission's mailing list should so indicate by writing to the Secretary of the Commission.

n. Competing Preliminary Permit: Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

o. Competing Development Application: Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

p. Notice of Intent: A notice of intent must specify the exact name, business address, and telephone number of the prospective applicant, and must include an unequivocal statement of intent to submit, if such an application may be filed, either a preliminary permit application or a development application (specify which type of application). A notice of intent must be served on the applicant(s) named in this public notice.

q. Proposed Scope of Studies Under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

r. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Comments, protests and interventions may be filed electronically via the Internet in lieu of paper; See 18 CFR 385.2001(a)(1)(iii) and the instructions on the Commission's web site under “efiling” link. Commission strongly encourages electronic filing.

s. Filing and Service of Responsive Documents: Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

t. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E5-6 Filed 1-5-05; 8:45 am]

BILLING CODE 6717-01-P